DEPARTMENT OF COMMERCE

National Telecommunications and Information Administration

Agency Information Collection Activities; Submission to the Office of Management and Budget (OMB) for Review and Approval; Comment Request; 911 Grant Program Performance Closeout Report

AGENCY: National Telecommunications and Information Administration (NTIA), Department of Commerce (DOC).

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before June 1, 2021.

ADDRESSES: Interested parties are invited to submit written comments by email to PRAcomments@doc.gov. Please reference 911 Grant Program Closeout Report in the subject line of your comments. Do not submit Confidential Business Information or otherwise sensitive or protected information.

FOR FURTHER INFORMATION CONTACT: Requests for additional information or specific questions related to collection activities should be directed to Yuki Miyamoto, Federal Program Officer, National Telecommunications and Information Administration, U.S. Department of Commerce, 1401 Constitution Avenue NW, Room 4078, Washington, DC 20230, 202-657-9660, or via email at ymiyamoto@ntia.gov.

SUPPLEMENTARY INFORMATION:

I. Abstract

In 2012, the Next Generation 911 (NG911) Advancement Act of 2012 (Middle Class Tax Relief and Job Creation Act of 2012, Pub. L. 112-96, Title VI, Subtitle E (codified at 47 U.S.C. 942)) enacted changes to this program. It reauthorized the 911 Implementation Coordination Office (ICO), a joint effort between NTIA and the National Highway Traffic Safety Administration (NHTSA). It delineated the responsibilities of the ICO to include a joint program to establish and facilitate coordination and communication between federal, state, and local emergency communications systems, emergency personnel, public safety organizations, telecommunications carriers, and telecommunications equipment manufacturers and vendors involved in the implementation of 911 services.

The NG911 Advancement Act provided funding for grants to be used for the implementation and operation of 911 services, E911 services, migration to an IP-enabled emergency network, and adoption and operation of NG911 services and applications; the implementation of IP-enabled emergency services and applications enabled by NG911 services, including the establishment of IP backbone networks and the application layer software infrastructure needed to interconnect the multitude of emergency response organizations; and training public safety personnel, including call-takers, first responders, and other individuals and organizations who are part of the emergency response chain in 911 services. In August 2019, NTIA and NHTSA made $109,250,000 in grant awards to 36 agencies.

The information collected for the closeout of this grant program will include various reporting requirements. The closeout performance report is a new collection instrument. All grantees will submit the closeout performance report, tangible property report and final financial report in accordance with 2 CFR part 200, the Uniform Administrative Requirements, Cost Principles, and Audit Requirements for Federal Awards (OMB Uniform Guidance). It is important for NHTSA and NTIA to have this information so that they can effectively administer the grant program and account for the expenditure of funds.

II. Method of Collection

Under this proposed effort, all grantees are required to submit required documentation electronically via email.

III. Data

OMB Control Number: 06XX-XXX.

Form Number: None.

Type of Review: New information collection.

Affected Public: Reporting entities are the 36 grantees, making the total maximum number of respondents 36.

Estimated Number of Respondents: 36.

Estimated Time per Response: 60 hours.

Estimated Total Annual Burden Hours: 2,160 hours.

Estimated Total Annual Cost to Public: $100,677.60.

Respondents' Obligation: Mandatory.

Legal Authority: 47 U.S.C. 942.

IV. Requests for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-06769 Filed 4-1-21; 8:45 am]

BILLING CODE 3510-WL-P